DEPARTMENT OF ENERGY

Office of Energy Efficiency and Renewable Energy

Federal Energy Management Advisory Committee

AGENCY: Office of Energy Efficiency and Renewable Energy, Department of Energy.

ACTION: Notice of open meeting.

SUMMARY: This notice announces an open meeting of the Federal Energy Management Advisory Committee (FEMAC). The Federal Advisory Committee Act (Public Law 92-463, 86 Stat. 770) requires that these meetings be announced in the Federal Register to allow for public participation. This notice announces the seventh meeting of FEMAC, an advisory committee established under Executive Order 13123—“Greening the Government through Efficient Energy Management.”

DATES: Monday, June 3, 2002; 6:00 p.m. to 7:30 p.m.; Tuesday, June 4, 2002; 1:00 p.m. to 2:00 p.m.

ADDRESSES: Wyndham Palm Springs Hotel, 888 East Tahquitz Canyon Way, Palm Springs, California 92262. Monday's meeting will be in the Wyndham's Mojave Training Center. Tuesday's meeting will be in the Wyndham's San Jancito Room.

FOR FURTHER INFORMATION CONTACT: Rick Klimkos, Acting Designated Federal Officer for the Committee, Office of Federal Energy Management Programs, U.S. Department of Energy, 1000 Independence Avenue, SW, Washington, DC 20585; (202) 586-8287.

SUPPLEMENTARY INFORMATION: Purpose of meeting: To provide advice and guidance on a range of issues critical to meeting mandated Federal energy management goals.

Tentative Agenda: Agenda will include discussions on the following topics:

Monday, June 3, 2002

The advisory committee is interested in receiving comments and recommendations from Federal facility managers regarding their experiences with Federal energy management project; topics of interest include but are not limited to:

• Implementation of Executive Order 13123

• Innovative financing mechanisms

• New technologies, products, and services

• Sustainable design

• Training and technical assistance

• Availability of useful information

Tuesday, June 4, 2002

The advisory committee is interested in receiving comments and recommendations from industry stakeholders (e.g., equipment manufacturers, utilities, energy service companies) regarding their experiences with Federal energy projects; topics of interest include but are not limited to:

• Barriers and opportunities

• Innovative financing mechanisms

• New technologies, products, and services

• Availability of useful information

Public Participation: In keeping with procedures, members of the public are welcome to observe the business of the Federal Energy Management Advisory Committee. If you would like to file a written statement with the committee, you may do so either before or after the meeting. If you would like to make oral statements regarding any of these items on the agenda, you should contact Rick Klimkos at (202) 586-8287 or Rick.Klimkos@ee.doe.gov (e-mail). You must make your request for an oral statement at least 5 business days before the meeting. Members of the public will be heard in the order in which they sign up at the beginning of the meeting. Reasonable provision will be made to include the scheduled oral statements on the agenda. The chair of the committee will make every effort to hear the views of all interested parties. The chair will conduct the meeting to facilitate the orderly conduct of business.

Minutes: The minutes of the meeting will be available for public review and copying within 30 days at the Freedom of Information Public Reading Room; Room 1E-190; Forrestal Building; 1000 Independence Avenue, SW., Washington, DC, between 9:00 a.m. and 4:00 p.m., Monday through Friday, except Federal holidays.

Issued at Washington, DC, on May 1, 2002.
Rachel M. Samuel,
Deputy Advisory Committee Management Officer.

[FR Doc. 02-11283 Filed 5-6-02; 8:45 am]

BILLING CODE 6450-01-P